DEPARTMENT OF TRANSPORTATION

Federal Aviation Administration

14 CFR Part 39

[Docket No. 2001-NM-109-AD; Amendment 39-13288; AD 2003-17-13]

RIN 2120-AA64

Airworthiness Directives; Bombardier Model DHC-8-102, -103, -106, -201, -202, -301, -311, and -315 Airplanes

AGENCY: Federal Aviation Administration, DOT.

ACTION: Final rule.

SUMMARY: This amendment adopts a new airworthiness directive (AD), applicable to certain Bombardier Model DHC-8-102, -103, -106, -201, -202, -301, -311, and -315 airplanes. This AD requires replacement of the elevator stop bumpers of the horizontal stabilizer with new bumpers. The actions specified by this AD are intended to prevent damage to the elevator trailing edge due to a broken or missing elevator stop bumper, which could result in jamming of the spring tab and consequent reduced controllability of the airplane. This action is intended to address the identified unsafe condition.

DATES: Effective October 7, 2003.

The incorporation by reference of certain publications listed in the regulations is approved by the Director of the Federal Register as of October 7, 2003.

ADDRESSES: The service information referenced in this AD may be obtained from Bombardier, Inc., Bombardier Regional Aircraft Division, 123 Garratt Boulevard, Downsview, Ontario M3K 1Y5, Canada. This information may be examined at the Federal Aviation Administration (FAA), Transport Airplane Directorate, Rules Docket, 1601 Lind Avenue, SW., Renton, Washington; or at the FAA, New York Aircraft Certification Office, 10 Fifth Street, Third Floor, Valley Stream, New York; or at the Office of the Federal Register, 800 North Capitol Street, NW., suite 700, Washington, DC.

FOR FURTHER INFORMATION CONTACT: Serge Napoleon, Aerospace Engineer, Airframe and Propulsion Branch, ANE-171, FAA, New York Aircraft Certification Office, 10 Fifth Street, Third Floor, Valley Stream, New York 11581; telephone (516) 256-7512; fax (516) 568-2716.

SUPPLEMENTARY INFORMATION: A proposal to amend part 39 of the Federal Aviation Regulations (14 CFR part 39) to include an airworthiness directive (AD) that is applicable to certain Bombardier Model DHC-8-102, -103, and -106 airplanes; Model DHC-8-201 and -202 airplanes; and Model DHC-8-301, -311, and -315 airplanes; was published as a supplemental notice of proposed rulemaking (NPRM) in the Federal Register on June 2, 2003 (68 FR 32695). That action proposed to require replacement of the elevator stop bumpers of the horizontal stabilizer with new bumpers.

Comments

Interested persons have been afforded an opportunity to participate in the making of this amendment. Due consideration has been given to the single comment received.

Request To Provide for Incorporation of Temporary Revisions (TRs) Into General Revisions of Maintenance Program Support Manual (PSM)

One commenter requests that the FAA revise the supplemental NPRM to address the issue of the future incorporation of the TRs referenced in the supplemental NPRM into the general revisions of the applicable PSMs. The commenter states that providing for this eventuality in this AD would eliminate the need for operators to request approval from the FAA of an alternative method of compliance (AMOC) with this AD in the future.

We concur. Once TRs have been incorporated into the PSM, the TRs are voided. Thus, referring to the TRs alone may necessitate that operators must apply for an AMOC once the information in the applicable TR has been incorporated into the applicable PSM. We have added a new paragraph (c) to this AD, and re-identified subsequent paragraphs accordingly, to state that, when the information in the applicable TR has been included in the general revisions of the applicable PSM, the general revisions may be inserted in the PSM, and the applicable TR may be removed from the Airworthiness Limitations section of the Instructions for Continued Airworthiness.

Conclusion

After careful review of the available data, including the comment noted above, the FAA has determined that air safety and the public interest require the adoption of the rule with the change previously described. The FAA has determined that this change will neither increase the economic burden on any operator nor increase the scope of the AD.

Interim Action

This is considered to be interim action until final action is identified, at which time we may consider further rulemaking.

Change to Labor Rate Estimate

Since the issuance of the supplemental NPRM, we have reviewed the figures we have used over the past several years to calculate AD costs to operators. To account for various inflationary costs in the airline industry, we find it necessary to increase the labor rate used in these calculations from $60 per work hour to $65 per work hour. The cost impact information, below, reflects this increase in the specified hourly labor rate.

Cost Impact

We estimate that 195 Bombardier Model DHC-8-102, -103, and -106 airplanes; Model DHC-8-201 and -202 airplanes; and Model DHC-8-301, -311, and -315 airplanes; of U.S. registry will be affected by this AD, that it will take approximately 2 work hours per airplane to accomplish the required actions, and that the average labor rate is $65 per work hour. Based on these figures, the cost impact of this AD on U.S. operators is estimated to be $25,350, or $130 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-17-13 Bombardier, Inc. (Formerly de Havilland, Inc.): Amendment 39-13288. Docket 2001-NM-109-AD.

Applicability: Model DHC-8-102, -103, -106, -201, -202, -301, -311, and -315 airplanes; certificated in any category; serial numbers 003 and subsequent.

Compliance: Required as indicated, unless accomplished previously.

To prevent damage to the elevator trailing edge due to a broken or missing elevator stop bumper, which could result in jamming of the spring tab and consequent reduced controllability of the airplane, accomplish the following:

Revision of Airworthiness Limitation (AWL) Section

(a) For all airplanes: Within 30 days after the effective date of this AD, revise the AWL section of the Instructions for Continued Airworthiness by inserting a copy of the following applicable de Havilland, Inc., temporary revision into the AWL section:

Table—Temporary Revisions
For model Nos.— | de Havilland, Inc., TR | Dated | Of maintenance program support manual (PSM)
DHC-8-102, -103, and -106 airplanes | AWL-84 | December 20, 2002 | 1-8-7
DHC-8-201 and -202 airplanes | AWL 2-24 | December 20, 2002 | 1-82-7
DHC-8-301, -311, -314, and -315 airplanes | AWL 3-91 | December 20, 2002 | 1-83-7

(b) Thereafter, except as provided in paragraphs (d) and (e) of this AD, no alternative replacement intervals may be approved for the elevator stop bumpers.

Incorporation of TRs Into General Revisions

(c) When the information in the applicable de Havilland, Inc., TR listed in the table in this AD has been included in the general revisions of the applicable PSM listed in the table in this AD, the general revisions may be inserted in the PSM, and the applicable TR may be removed from the AWL section of the Instructions for Continued Airworthiness.

Phase-In Replacement

(d) For elevator stop bumpers that have accumulated more than 5,000 total flight hours or have more than 30 months total time-in-service as of the effective date of this AD: Within 6 months or 1,000 flight hours after the effective date of this AD, whichever occurs first, replace the left and right upper and lower elevator stop bumpers of the horizontal stabilizer with new bumpers having the same part numbers as the existing bumpers, per the procedures specified in the applicable Dash 8 (de Havilland, Inc.) Maintenance Task Card 2730/22, dated April 25, 2001 (for series 100, 200, and 300). Repeat the replacement thereafter per the intervals specified in the AWL revision required by paragraph (a) of this AD.

Alternative Methods of Compliance

(e) Per 14 CFR 39.19, the Manager, New York Aircraft Certification Office, FAA, is authorized to approve alternative methods of compliance for this AD.

Incorporation by Reference

(f) Unless otherwise specified in this AD, the actions shall be done in accordance with de Havilland, Inc., Temporary Revision AWL-84, dated December 20, 2002, to the Airworthiness Limitations List of Maintenance Program Support Manual 1-8-7, and Dash 8 Series 100 (de Havilland, Inc.) Maintenance Task Card 2730/22, dated April 25, 2001; or de Havilland, Inc., Temporary Revision AWL 2-24, dated December 20, 2002, to the Airworthiness Limitations List of Maintenance Program Support Manual 1-82-7, and Dash 8 Series 200 (de Havilland, Inc.) Maintenance Task Card 2730/22, dated April 25, 2001; or de Havilland, Inc., Temporary Revision AWL 3-91, dated December 20, 2002, to the Airworthiness Limitations List of Maintenance Program Support Manual 1-83-7, and Dash 8 Series 300 (de Havilland, Inc.) Maintenance Task Card 2730/22, dated April 25, 2001; as applicable. This incorporation by reference was approved by the Director of the Federal Register in accordance with 5 U.S.C. 552(a) and 1 CFR part 51. Copies may be obtained from Bombardier, Inc., Bombardier Regional Aircraft Division, 123 Garratt Boulevard, Downsview, Ontario M3K 1Y5, Canada. Copies may be inspected at the FAA, Transport Airplane Directorate, 1601 Lind Avenue SW, Renton, Washington; or at the FAA, New York Aircraft Certification Office, 10 Fifth Street, Third Floor, Valley Stream, New York; or at the Office of the Federal Register, 800 North Capitol Street, NW., suite 700, Washington, DC.

Note: The subject of this AD is addressed in Canadian airworthiness directive CF-2001-08R1, effective January 10, 2003.

Effective Date

(g) This amendment becomes effective on October 7, 2003.

Issued in Renton, Washington, on August 20, 2003.
Kyle L. Olsen,
Acting Manager, Transport Airplane Directorate, Aircraft Certification Service.

[FR Doc. 03-21870 Filed 8-29-03; 8:45 am]

BILLING CODE 4910-13-P